NATIONAL ARCHIVES AND RECORDS ADMINISTRATION

Advisory Committee on Presidential Libraries Meeting

AGENCY: National Archives and Records Administration.

ACTION: Notice of meeting.

SUMMARY: In accordance with the Federal Advisory Committee Act, as amended (5 U.S.C. appendix 2), the National Archives and Records Administration (NARA) announces a meeting of the Advisory Committee on Presidential Libraries. The meeting will be held to discuss the Presidential Library program and topics related to the public-private partnership between the Presidential Libraries and their Presidential Foundations.

DATES: The meeting will be held on May 11, 2010 from 10 a.m. to 1 p.m.

ADDRESSES: Southern Methodist University, Hughes Trigg Student Center, 3140 Dyer Street, Ballroom West, Dallas, Texas 75206.

FOR FURTHER INFORMATION CONTACT: Sharon Fawcett, Assistant Archivist for Presidential Libraries, at the National Archives and Records Administration, 8601 Adelphi Road, College Park, Maryland 20740, telephone number (301) 837-3250. Contact the Presidential Libraries staff at Kathleen.mead@nara.gov.

SUPPLEMENTARY INFORMATION: The meeting will be open to the public. Meeting attendees may park at the Binkley Parking Garage, located at 3101 Binkley Ave. The garage's hourly rates will apply.

Dated: April 12, 2010.
Mary Ann Hadyka,
Committee Management Officer.

[FR Doc. 2010-8787 Filed 4-14-10; 8:45 am]

BILLING CODE 7515-01-P